DEPARTMENT OF ENERGY

Federal Energy Regulatory Commission

Combined Notice of Filings #1

Take notice that the Commission received the following electric corporate filings:

Docket Numbers: EC14-136-000.

Applicants: JPM Capital Corporation, FC Energy Finance I, Inc.

Description: Application for Disposition of Facilities of JPM Capital Corporation, et al.

Filed Date: 9/8/14.

Accession Number: 20140908-5230.

Comments Due: 5 p.m. ET 9/29/14.

Docket Numbers: EC14-137-000.

Applicants: Origin Wind Energy, LLC, Goodwell Wind Project, LLC.

Description: Joint Application for Authorization Under Section 203 of the Federal Power Act for the Disposition of Jurisdictional Facilities, Request for Expedited Consideration and Confidential Treatment of Origin Wind Energy, LLC, et al.

Filed Date: 9/8/14.

Accession Number: 20140908-5233.

Comments Due: 5 p.m. ET 9/29/14.

Take notice that the Commission received the following exempt wholesale generator filings:

Docket Numbers: EG14-96-000.

Applicants: Tonopah Solar Energy, LLC.

Description: Notice of Self-Certification of Exempt Wholesale Generator Status of Tonopah Solar Energy, LLC.

Filed Date: 9/9/14.

Accession Number: 20140909-5033.

Comments Due: 5 p.m. ET 9/30/14.

Take notice that the Commission received the following electric rate filings:

Docket Numbers: ER11-3417-007; ER10-2895-011; ER14-1964-002; ER13-2143-004; ER10-3167-003; ER13-203-003; ER11-2292-011; ER11-3942-010; ER11-2293-011; ER10-2917-011; ER11-2294-010; ER12-2447-009; ER13-1613-004; ER10-2918-012; ER12-199-010; ER10-2920-011; ER11-3941-009; ER10-2921-011; ER10-2922-011; ER13-1346-003; ER10-2966-011; ER11-2383-005; ER10-3178-004.

Applicants: Alta Wind VIII, LLC, Bear Swamp Power Company LLC, BIF II Safe Harbor Holdings, LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US, Brookfield Smoky Mountain Hydropower LLC, Brookfield White Pine Hydro LLC, Carr Street Generating Station, L.P., Coram California Development, L.P., Erie Boulevard Hydropower, L.P., Granite Reliable Power, LLC, Great Lakes Hydro America LLC, Hawks Nest Hydro LLC, Mesa Wind Power Corporation, Rumford Falls Hydro LLC, Safe Harbor Water Power Corporation, Windstar Energy, LLC.

Description: Notice of Change in Status of the Brookfield Companies.

Filed Date: 9/8/14.

Accession Number: 20140908-5241.

Comments Due: 5 p.m. ET 9/29/14.

Docket Numbers: ER13-343-003.

Applicants: CPV Maryland, LLC.

Description: Notice of Change in Status of CPV Maryland, LLC.

Filed Date: 9/8/14.

Accession Number: 20140908-5219.

Comments Due: 5 p.m. ET 9/29/14.

Docket Numbers: ER14-2805-000.

Applicants: Public Service Company of Colorado.

Description: § 205(d) rate filing per 35.13(a)(2)(iii): 2014-09-08_NSP-WI Muni Utilities-T-L NOC Filing to be effective 9/1/2014.

Filed Date: 9/8/14.

Accession Number: 20140908-5184.

Comments Due: 5 p.m. ET 9/29/14.

Docket Numbers: ER14-2806-000.

Applicants: PJM Interconnection, LLC.

Description: § 205(d) rate filing per 35.13(a)(2)(iii): Original Service Agreement No. 3936; Queue No. Z2-017 to be effective 8/7/2014.

Filed Date: 9/8/14.

Accession Number: 20140908-5201.

Comments Due: 5 p.m. ET 9/29/14.

Docket Numbers: ER14-2807-000.

Applicants: Southern California Edison Company.

Description: § 205(d) rate filing per 35.13(a)(2)(iii): Distribution Service Agreement with US Topco Energy, Inc. to be effective 11/9/2014.

Filed Date: 9/9/14.

Accession Number: 20140909-5001.

Comments Due: 5 p.m. ET 9/30/14.

Docket Numbers: ER14-2809-000.

Applicants: CPV Maryland, LLC.

Description: § 205(d) rate filing per 35.13(a)(2)(iii): Revised Market-Based Rate Tariff Filing to be effective 11/9/2014.

Filed Date: 9/9/14.

Accession Number: 20140909-5116.

Comments Due: 5 p.m. ET 9/30/14.

Docket Numbers: ER14-2810-000.

Applicants: CPV Sentinel, LLC.

Description: § 205(d) rate filing per 35.13(a)(2)(iii): Revised Market-Based Rate Tariff Filing to be effective 11/9/2014.

Filed Date: 9/9/14.

Accession Number: 20140909-5117.

Comments Due: 5 p.m. ET 9/30/14.

Docket Numbers: ER14-2811-000.

Applicants: CPV Keenan II Renewable Energy Company.

Description: § 205(d) rate filing per 35.13(a)(2)(iii): Revised Market-Based Rate Tariff Filing to be effective 11/9/2014.

Filed Date: 9/9/14.

Accession Number: 20140909-5118.

Comments Due: 5 p.m. ET 9/30/14.

Docket Numbers: ER14-2812-000.

Applicants: CPV Shore, LLC.

Description: § 205(d) rate filing per 35.13(a)(2)(iii): Revised Market-Based Rate Tariff Filing to be effective 11/9/2014.

Filed Date: 9/9/14.

Accession Number: 20140909-5119.

Comments Due: 5 p.m. ET 9/30/14.

Docket Numbers: ER14-2813-000.

Applicants: PacifiCorp.

Description: Tariff Withdrawal per 35.15: Termination of Klamath Energy Construction Agreement to be effective 11/12/2014.

Filed Date: 9/9/14.

Accession Number: 20140909-5125.

Comments Due: 5 p.m. ET 9/30/14.

Docket Numbers: ER14-2814-000.

Applicants: PJM Interconnection, L.L.C.

Description: § 205(d) rate filing per 35.13(a)(2)(iii): Original Service Agreement No. 3940; Queue No. Y3-054 to be effective 8/11/2014.

Filed Date: 9/9/14.

Accession Number: 20140909-5178.

Comments Due: 5 p.m. ET 9/30/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2014.
Nathaniel J. Davis, Sr.,
Deputy Secretary.

[FR Doc. 2014-22178 Filed 9-16-14; 8:45 am]

BILLING CODE 6717-01-P